DEPARTMENT OF TRANSPORTATION

Federal Aviation Administration

14 CFR Part 39

[Docket No. FAA-2020-1176; Project Identifier AD-2020-01231-T; Amendment 39-21402; AD 2021-02-19]

RIN 2120-AA64

Airworthiness Directives; The Boeing Company Airplanes

AGENCY: Federal Aviation Administration (FAA), DOT.

ACTION: Final rule; request for comments.

SUMMARY: The FAA is adopting a new airworthiness directive (AD) for certain The Boeing Company Model 787-8, 787-9, and 787-10 airplanes. This AD requires repetitive general visual inspections of the bilge barriers located in the forward and aft cargo compartments for disengaged or damaged decompression panels, reinstallation of disengaged but undamaged decompression panels, and replacement of damaged decompression panels. This AD was prompted by reports of multiple incidents of torn decompression panels being found in the bilge area. The FAA is issuing this AD to address the unsafe condition on these products.

DATES: This AD is effective March 8, 2021.

The FAA must receive comments on this AD by April 5, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket on the internet at https://www.regulations.gov by searching for and locating Docket No. FAA-2020-1176; or in person at Docket Operations between 9 a.m. and 5 p.m., Monday through Friday, except Federal holidays. The AD docket contains this final rule, any comments received, and other information. The street address for Docket Operations is listed above.

FOR FURTHER INFORMATION CONTACT: Brandon Lucero, Aerospace Engineer, Cabin Safety and Environmental Systems Section, FAA, Seattle ACO Branch, 2200 South 216th St., Des Moines, WA 98198; phone and fax: 206-231-3569; email: brandon.lucero@faa.gov.

SUPPLEMENTARY INFORMATION:

Background

The FAA has received reports of multiple incidents of torn decompression panels being found in the bilge area. These torn decompression panels were found after accomplishment of the actions required by AD 2018-05-06, Amendment 39-19215 (83 FR 9688, March 7, 2018) (AD 2018-05-06), which requires repetitive inspections of the bilge barriers in the forward and aft cargo compartments for disengaged decompression panels; reinstalling any disengaged panels; and replacing the decompression panels with new panels and straps. The torn decompression panels present a different unsafe condition than that addressed by AD 2018-05-06, so the FAA is issuing this AD to address the new unsafe condition. In the event of a cargo fire, significant leakage in the bilge area could result in insufficient Halon concentrations to adequately control the fire. This condition, if not addressed, could result in the loss of continued safe flight and landing of the airplane.

In addition to this AD addressing a different unsafe condition than the one specified in AD 2018-05-06, this AD also includes models that are not affected by the unsafe condition specified in AD 2018-05-06. Both ADs include reinstallation and replacement actions as part of the required on-condition actions. AD 2018-05-06 requires certain service information for the reinstallation and replacement instructions, which refer to airplane maintenance manual (AMM) procedures. However, this AD requires using the operator's maintenance or inspection program, as applicable, for the reinstallation and replacement instructions.

FAA's Determination

The FAA is issuing this AD because the agency evaluated all the relevant information and determined the unsafe condition described previously is likely to exist or develop in other products of the same type design.

AD Requirements

This AD requires repetitive inspections of the bilge barriers located in the forward and aft cargo compartments for disengaged or damaged (torn) decompression panels, reinstalling panels that are disengaged but undamaged, and replacing damaged panels.

Interim Action

The FAA considers this AD interim action. The manufacturer is currently developing a modification that will address the unsafe condition identified in this AD. Once this modification is developed, approved, and available, the FAA might consider additional rulemaking.

FAA's Justification and Determination of the Effective Date

An unsafe condition exists that requires the immediate adoption of this AD without providing an opportunity for public comments prior to adoption. The FAA has found that the risk to the flying public justifies waiving notice and comment prior to adoption of this rule because, in the event of a cargo fire, significant leakage in the bilge area could result in insufficient Halon concentrations to adequately control the fire. This condition, if not addressed, could result in the loss of continued safe flight and landing. In addition, the compliance time for the required action is shorter than the time necessary for the public to comment and for publication of the final rule. Therefore, the FAA finds good cause that notice and opportunity for prior public comment are impracticable. In addition, for the reasons stated above, the FAA finds that good cause exists for making this amendment effective in less than 30 days.

Comments Invited

The FAA invites you to send any written data, views, or arguments about this final rule. Send your comments to an address listed under ADDRESSES. Include the docket number FAA-2020-1176 and Project Identifier AD-2020-01231-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Brandon Lucero, Aerospace Engineer, Cabin Safety and Environmental Systems Section, FAA, Seattle ACO Branch, 2200 South 216th St., Des Moines, WA 98198; phone and fax: 206-231-3569; email: brandon.lucero@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 222 airplanes of U.S. registry. The FAA estimates the following costs to comply with this AD:

Estimated Costs
Action | Labor cost | Parts cost | Cost per product | Cost on U.S. operators
Repetitive inspections | 3 work-hours × $85 per hour = $255 per inspection cycle | $0 | $255 per inspection cycle | $56,610 per inspection cycle.

The FAA estimates the following costs to do any necessary replacements that would be required based on the results of the inspections. The FAA has no way of determining the number of aircraft that might need these replacements:

On-Condition Costs
Action | Labor cost | Parts cost | Cost per product
Replacement | 1 work-hour × $85 per hour = $85 | * $ | * $85
* The FAA has received no definitive data on which to base the parts cost estimates for the replacements specified in this AD.

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-02-19 The Boeing Company: Amendment 39-21402 ; Docket No. FAA-2020-1176; Project Identifier AD-2020-01231-T.

(a) Effective Date

This airworthiness directive (AD) is effective March 8, 2021.

(b) Affected ADs

None.

(c) Applicability

This AD applies to The Boeing Company airplanes identified in paragraphs (c)(1) through (3) of this AD, certificated in any category.

(1) Model 787-8 airplanes equipped with bilge assemblies with decompression panels having part number (p/n) C412707-107, C412705-117, C412705-119, or C412705-121.

(2) Model 787-9 airplanes equipped with bilge assemblies with decompression panels having p/n C419701-123, C419701-125, C419701-127, or C419701-129.

(3) Model 787-10 airplanes equipped with bilge assemblies with decompression panels having p/n 852Z0151-100, 852Z0153-101, or 852Z0156-103.

(d) Subject

Air Transport Association (ATA) of America Code 26, Fire protection.

(e) Unsafe Condition

This AD was prompted by reports of multiple incidents of torn decompression panels being found in the bilge area. The FAA is issuing this AD to address the possibility of leakage in the bilge area, which could, in the event of a cargo fire, result in insufficient Halon concentrations to adequately control the fire. This condition, if not addressed, could result in the loss of continued safe flight and landing of the airplane.

(f) Compliance

Comply with this AD within the compliance times specified, unless already done.

(g) Requirements

Within 30 days after the effective date of this AD, do a general visual inspection of the bilge barriers located in the forward and aft cargo compartments for disengaged or damaged (torn) decompression panels. If any disengaged but undamaged panel is found: Before further flight, reinstall the panel. If any damaged panel is found: Before further flight, replace the panel with a new or serviceable panel. Reinstallations and replacements must be done in accordance with the operator's maintenance or inspection program, as applicable. Repeat the inspections thereafter at intervals not to exceed 120 days.

(h) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (i) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(i) Related Information

For more information about this AD, contact Brandon Lucero, Aerospace Engineer, Cabin Safety and Environmental Systems Section, FAA, Seattle ACO Branch, 2200 South 216th St., Des Moines, WA 98198; phone and fax: 206-231-3569; email: brandon.lucero@faa.gov.

(j) Material Incorporated by Reference

None.

Issued on January 19, 2021.
Lance T. Gant,
Director, Compliance & Airworthiness Division, Aircraft Certification Service.

[FR Doc. 2021-03462 Filed 2-17-21; 11:15 am]

BILLING CODE 4910-13-P